DEPARTMENT OF DEFENSE

Department of the Army; Corps of Engineers

Chief of Engineers Environmental Advisory Board; Meeting

AGENCY: Department of the Army, U.S. Army Corps of Engineers, DoD.

ACTION: Notice of open meeting.

SUMMARY: In accordance with 10(a)(2) of the Federal Advisory Committee Act (Pub. L. 92-463), announcement is made of the forthcoming meeting.

Name of Committee: Chief of Engineers Environmental Advisory Board (EAB).

Date: August 28, 2012.

Time: 8:30 a.m. through 12:00 p.m.

Location: Ralph H. Metcalfe Federal Building (RMFB), 77 West Jackson Boulevard, Room 331, Chicago, IL 60604.

Agenda: The Board will advise the Chief of Engineers on environmental policy, identification and resolution of environmental issues and missions, and addressing challenges, problems and opportunities in an environmentally sustainable manner. Discussions and presentations during this meeting will focus on the effects of invasive species on native ecosystems and management techniques. Following the discussions and presentations there will be a public comment period.

FOR FURTHER INFORMATION CONTACT: Mr. John C. Furry, Designated Federal Officer, Headquarters, U.S. Army Corps of Engineers, 441 G Street NW., Washington, DC 20314-1000; john.c.furry@usace.army.mil, Ph: (202) 761-5875.

SUPPLEMENTARY INFORMATION: This meeting will be open to the public. Any interested person may attend. However, all attendees will enter and exit RMFB through the appropriate visitors security point(s). Attendees need to arrive in time to complete the security screening and arrive at the meeting room before 8:30. Attendees should be prepared to present two forms of valid photo identification, one of which must be government issued identification, and to pass through a scanning unit. The primary purpose of this meeting is for the Chief of Engineers to receive the views of his EAB; however, up to thirty minutes will be set aside for public comment. Anyone who wishes to speak must register prior to the start of the meeting. Written comments may also be submitted during registration. Registration will be from 8:00 until 8:25 a.m. Please note that the Board operates under the provisions of the Federal Advisory Committee Act, as amended, so all submitted comments and public presentations will be treated as public documents and may be made available for public inspection, including, but not limited to, being posted on the Board's Web site.

Brenda S. Bowen,
Army Federal Register Liaison Officer.

[FR Doc. 2012-19002 Filed 8-2-12; 8:45 am]

BILLING CODE 3720-58-P